FEDERAL ACCOUNTING STANDARDS ADVISORY BOARD

Notice of Reappointment of FASAB Chair and Member

AGENCY: Federal Accounting Standards Advisory Board.

ACTION: Notice.

FOR FURTHER INFORMATION CONTACT: Ms. Monica R. Valentine, Executive Director, 441 G Street NW, Suite 1155, Washington, DC 20548, or call (202) 512-7350.

SUPPLEMENTARY INFORMATION: Pursuant to 31 U.S.C. 3511(d), the Federal Advisory Committee Act as amended (5 U.S.C. App.), and the FASAB Rules Of Procedure, as amended in October 2010, notice is hereby given that Mr. George Scott has been reappointed to serve as the chair of the Federal Accounting Standards Advisory Board (FASAB or “the Board”) beginning January 1, 2021. Mr. Scott's second five-year term will conclude on December 31, 2025.

Notice is also given that Ms. Gila Bronner has been reappointed to serve a second five-year term as a member of the Board beginning January 1, 2021. Her second five-year term will conclude on December 31, 2025.

Authority: Federal Advisory Committee Act, 5 U.S.C. App.

Dated: February 17, 2021.
Monica R. Valentine,
Executive Director.

[FR Doc. 2021-03561 Filed 2-22-21; 8:45 am]

BILLING CODE 1610-02-P